DEPARTMENT OF TRANSPORTATION

Federal Aviation Administration

14 CFR Part 39

[Docket No. FAA-2004-19763; Directorate Identifier 2004-NM-187-AD; Amendment 39-13969; AD 2005-03-13]

RIN 2120-AA64

Airworthiness Directives; Bombardier Model CL-600-2B19 (Regional Jet Series 100 & 440) Airplanes

AGENCY: Federal Aviation Administration (FAA), Department of Transportation (DOT).

ACTION: Final rule.

SUMMARY: The FAA is adopting a new airworthiness directive (AD) for certain Bombardier Model CL-600-2B19 (Regional Jet Series 100 & 440) airplanes. This AD requires doing repetitive inspections for fractures and cracks of the links of the aileron power control unit (PCU); replacing any fractured/cracked link; and doing applicable related investigative and corrective actions, if necessary. This AD is prompted by reports indicating that the links of the aileron PCU have failed. We are issuing this AD to prevent failure of both links of the aileron PCU, which could result in reduced lateral control of the airplane.

DATES: This AD becomes effective March 23, 2005.

The incorporation by reference of a certain publication listed in the AD is approved by the Director of the Federal Register as of March 23, 2005.

ADDRESSES: For service information identified in this AD, contact Bombardier, Inc., Canadair, Aerospace Group, P.O. Box 6087, Station Centre-ville, Montreal, Quebec H3C 3G9, Canada. You can examine this information at the National Archives and Records Administration (NARA). For information on the availability of this material at NARA, call (202) 741-6030, or go to: http://www.archives.gov/federal_register/code_of_federal_regulations/ibr_locations.html.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2004-19763; the directorate identifier for this docket is 2004-NM-187-AD.

FOR FURTHER INFORMATION CONTACT: Dan Parrillo, Aerospace Engineer, Systems and Flight Test Branch, ANE-172, FAA, New York Aircraft Certification Office, 1600 Stewart Avenue, Westbury, suite 410, New York 11590; telephone (516) 228-7305; fax (516) 794-5531.

SUPPLEMENTARY INFORMATION: The FAA proposed to amend 14 CFR part 39 with an AD for certain Bombardier Model CL-600-2B19 (Regional Jet Series 100 & 440) airplanes. That action, published in the Federal Register on December 7, 2004 (69 FR 70571), proposed to require doing repetitive inspections for fractures and cracks of the links of the aileron power control unit (PCU); replacing any fractured/cracked link; and doing applicable related investigative and corrective actions, if necessary.

Comments

We provided the public the opportunity to participate in the development of this AD. We have considered the one comment that was submitted on the proposed AD. The commenter supports the proposed AD.

Conclusion

We have carefully reviewed the available data, including the comment that has been submitted, and determined that air safety and the public interest require adopting the AD as proposed.

Interim Action

This is considered to be interim action until final action is identified, at which time we may consider further rulemaking.

Costs of Compliance

This AD will affect about 697 airplanes of U.S. registry. The required inspection will take about 1 work hour per airplane, at an average labor rate of $65 per work hour. Based on these figures, the estimated cost of the AD for U.S. operators is $45,305, or $65 per airplane, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-03-13 Bombardier, Inc. (Formerly Canadair): Amendment 39-13969. Docket No. FAA-2004-19763; Directorate Identifier 2004-NM-187-AD.

Effective Date

(a) This AD becomes effective March 23, 2005.

Affected ADs

(b) None.

Applicability

(c) This AD applies to Bombardier Model CL-600-2B19 (Regional Jet Series 100 & 440) airplanes, serial numbers 7003 and subsequent; certificated in any category.

Unsafe Condition

(d) This AD was prompted by reports indicating that the links of the aileron power control unit (PCU) have failed. We are issuing this AD to prevent failure of both links of the aileron PCU, which could result in reduced lateral control of the airplane.

Compliance

(e) You are responsible for having the actions required by this AD performed within the compliance times specified, unless the actions have already been done.

Repetitive Inspections

(f) Before the accumulation of 2,000 total flight hours, or within 550 flight hours after the effective date of this AD, whichever occurs later, do a detailed inspection for fractures and cracks of the links of the aileron PCU, in accordance with Part A of the Accomplishment Instructions of Bombardier Alert Service Bulletin A601R-27-130, Revision “B,” including Appendices A and B, dated May 11, 2004. Repeat the detailed inspection thereafter at intervals not to exceed 1,000 flight hours.

Note 1: For the purposes of this AD, a detailed inspection is “an intensive examination of a specific item, installation, or assembly to detect damage, failure, or irregularity. Available lighting is normally supplemented with a direct source of good lighting at an intensity deemed appropriate. Inspection aids such as mirrors magnifying lenses, etc. may be necessary. Surface cleaning and elaborate procedures may be required.”

Corrective Action

(g) If any fractured or cracked link is detected during any inspection required by paragraph (f) of this AD, before further flight, replace the fractured/cracked link and do the applicable related investigative and corrective actions by doing all the actions in accordance with Part B of the Accomplishment Instructions of Bombardier Alert Service Bulletin A601R-27-130, Revision “B,” including Appendices A and B, dated May 11, 2004; except as required by paragraph (h) of this AD.

(h) If any crack is found on the aileron lugs during any related investigative action required by paragraph (g) of this AD, and the service bulletin recommends contacting Bombardier for disposition: Before further flight, disposition and replace the cracked aileron lug in accordance with a method approved by the Manager, New York Aircraft Certification Office (ACO), FAA, or Transport Canada Civil Aviation (TCCA) (or its delegated agent).

Acceptable Revisions of the Referenced Service Bulletin

(i) Actions specified in paragraphs (f) and (g) of this AD done before the effective date of this AD in accordance with Bombardier Alert Service Bulletin A601R-27-130, Revision “A,” including Appendices A and B, dated December 22, 2003; are acceptable for compliance with the corresponding requirements of paragraphs (f) and (g) of this AD.

(j) Accomplishment of the initial inspection of the links of the aileron PCU, and replacement if necessary, before the effective date of this AD in accordance with Bombardier Alert Service Bulletin A601R-27-130, including Appendices A and B, dated November 13, 2003, is acceptable for compliance with the corresponding requirements of paragraphs (f) and (g) of this AD; except as provided by paragraph (k) of this AD.

(k) Airplanes on which a fractured or cracked link of the aileron PCU was found that were not subject to an NDT inspection of the aileron lugs (i.e., related investigative action required by paragraph (h) of this AD) before the effective date of this AD must do an NDT inspection of the applicable lugs in accordance with paragraph (g) of this AD at the next repetitive detailed inspection of the link of the aileron PCU required by this AD.

Reporting

(l) Submit a report of the findings (both positive and negative) of the initial inspection required by paragraph (f) of this AD and any associated fractured or cracked link to Bombardier Aerospace Inc., c/o In-Service Engineering, 3rd floor, Dept. 508, 400 Cote Vertu Road West, Dorval, QC, Canada H4S 1Y9, at the applicable time specified in paragraph (l)(1) or (l)(2) of this AD. The report must be done in accordance with Appendices A and B of Bombardier Alert Service Bulletin A601R-27-130, Revision ‘B,’ dated May 11, 2004. Under the provisions of the Paperwork Reduction Act of 1980 (44 U.S.C. 3501 et seq.), the Office of Management and Budget (OMB) has approved the information collection requirements contained in this AD and has assigned OMB Control Number 2120-0056.

(1) If the inspection was done after the effective date of this AD: Submit the report and any fractured/cracked link within 30 days after the inspection.

(2) If the inspection was accomplished prior to the effective date of this AD: Submit the report and any fractured/cracked link within 30 days after the effective date of this AD.

No Submission of Comment Sheets

(m) Although the service bulletin referenced in this AD specifies to submit comment and compliance sheets to the manufacturer, this AD does not include that requirement.

Alternative Methods of Compliance (AMOCs)

(n) The Manager, New York Aircraft Certification Office, FAA, has the authority to approve AMOCs for this AD, if requested in accordance with the procedures found in 14 CFR 39.19.

Related Information

(o) Canadian airworthiness directive CF-2004-13, dated July 20, 2004, also addresses the subject of this AD.

Material Incorporated by Reference

(p) You must use Bombardier Alert Service Bulletin A601R-27-130, Revision ‘B,’ including Appendices A and B, dated May 11, 2004, to perform the actions that are required by this AD, unless the AD specifies otherwise. The Director of the Federal Register approves the incorporation by reference of this document in accordance with 5 U.S.C. 552(a) and 1 CFR part 51. For copies of the service information, contact Bombardier, Inc., Canadair, Aerospace Group, P.O. Box 6087, Station Centre-ville, Montreal, Quebec H3C 3G9, Canada. For information on the availability of this material at the National Archives and Records Administration (NARA), call (202) 741-6030, or go to http://www.archives.gov/federal_register/code_of_federal_regulations/ibr_locations.html. You may view the AD docket at the Docket Management Facility, U.S. Department of Transportation, 400 Seventh Street SW., room PL-401, Nassif Building, Washington, DC.

Issued in Renton, Washington, on January 31, 2005.
Kalene C. Yanamura,
Acting Manager, Transport Airplane Directorate, Aircraft Certification Service.

[FR Doc. 05-2580 Filed 2-15-05; 8:45 am]

BILLING CODE 4910-13-P